DEPARTMENT OF AGRICULTURE

Animal and Plant Health Inspection Service

[Docket No. 01-018-3]

Availability of Evaluation Related to FMD Status of Great Britain; Correction

AGENCY: Animal and Plant Health Inspection Service, USDA.

ACTION: Notice of availability and request for comments; correction.

SUMMARY: In a notice published in the Federal Register on July 16, 2002 (Docket No. 01-018-2), we announced the availability for review and comment of a document that assesses the foot-and-mouth disease status of Great Britain (England, Scotland, Wales, and the Isle of Man) and the related disease risks associated with importing animals and animal products into the United States from Great Britain. The notice contained an incorrect Internet address. This document corrects that error.

DATES: We will consider all comments that we receive on Docket No. 01-018-2 on or before September 16, 2002.

ADDRESSES: You may submit comments by postal mail/commercial delivery or by e-mail. If you use postal mail/commercial delivery, please send four copies of your comment (an original and three copies) to: Docket No. 01-018-2, Regulatory Analysis and Development, PPD, APHIS, Station 3C71, 4700 River Road Unit 118, Riverdale, MD 20737-1238. Please state that your comment refers to Docket No. 01-018-2. If you use e-mail, address your comment to regulations@aphis.usda.gov. Your comment must be contained in the body of your message; do not send attached files. Please include your name and address in your message and “Docket No. 01-018-2” on the subject line.

You may read the evaluation and any comments that we receive on the evaluation in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Anne Goodman, Supervisory Staff Officer, Regionalization Evaluation Services, VS, APHIS, 4700 River Road Unit 38, Riverdale, MD 20737-1231; (301) 734-4356.

SUPPLEMENTARY INFORMATION: On July 16, 2002, we published in the Federal Register (67 FR 46628-46629, Docket No. 01-018-2) a notice of availability and request for comments for a document entitled “APHIS Evaluation of FMD Status of Great Britain (England, Scotland, Wales, and the Isle of Man)” (May 2002). This evaluation assesses the foot-and-mouth disease status of Great Britain and related disease risks associated with importing animals and animal products into the United States from Great Britain. This evaluation will serve as a basis to determine whether to relieve certain prohibitions and restrictions on the importation of ruminants and swine and fresh (chilled or frozen) meat and other products of ruminants and swine into the United States from Great Britain. We are making the evaluation available for public comment for 60 days. Comments must be received on or before September 16, 2002.

In the background portion of the notice, we provided an Internet address where the evaluation could be viewed. This address was incorrect. The Internet address should have read: http://www.aphis.usda.gov/vs/reg-request.html. This document corrects that error.

Correction

In FR Doc. 02-17795, published on July 16, 2002 (67 FR 46628-46629), make the following correction: On page 46629, first column, fourth full paragraph, in the first sentence, correct “http://www.aphis.usda/gov/vs/reg-request.html” to read “http://www.aphis.usda.gov/vs/reg-request.html”.

Done in Washington, DC, this 15th day of August, 2002.
Kevin Shea,
Acting Administrator, Animal and Plant Health Inspection Service.

[FR Doc. 02-21275 Filed 8-20-02; 8:45 am]

BILLING CODE 3410-34-P